DEPARTMENT OF HOMELAND SECURITY

Coast Guard

33 CFR Part 117

[Docket No. USCG-2018-0241]

Drawbridge Operation Regulation; Reynolds Channel, Long Beach, New York

AGENCY: Coast Guard, DHS.

ACTION: Notice of temporary deviation from drawbridge regulation.

SUMMARY: The Coast Guard has issued a temporary deviation from the operating schedule that governs the MTA Long Island Railroad Bridge across the Reynolds Channel, mile 4.4, at Long Beach, New York. This temporary deviation is necessary to replace bridge timbers. This deviation allows the bridge to remain in the closed position.

DATES: This deviation is effective from 12:01 a.m. on April 7, 2018 to 12:01 a.m. on April 30, 2018.

ADDRESSES: The docket for this deviation, USCG-2018-0241 is available at http://www.regulations.gov. Type the docket number in the “SEARCH” box and click “SEARCH”. Click on Open Docket Folder on the line associated with this deviation.

FOR FURTHER INFORMATION CONTACT: If you have questions on this temporary deviation, call or email Stephanie E. Lopez, Project Officer, First Coast Guard District, telephone (212) 514-4335, email Stephanie.E.Lopez@uscg.mil.

SUPPLEMENTARY INFORMATION: The owner of the bridge, the MTA Long Island Railroad, requested a temporary deviation to facilitate the replacement of bridge timbers. The Long Island Railroad Bridge across the Reynolds Channel, mile 4.4, has a vertical clearance in the closed position of 14 feet at mean high water. The existing bridge operating regulations are found at 33 CFR 117.5.

This temporary deviation allows the Long Island Railroad Bridge to remain in the closed position as follows:

12:01 a.m. on April 7 to 4 a.m. on April 9;

12:01 a.m. on April 14 to 4 a.m. on April 16;

12:01 a.m. on April 21 to 12:01 a.m. on April 23; and

12:01 a.m. on April 28 to 12:01 a.m. on April 30.

The waterway is transited by commercial and recreational traffic. Coordination with the waterway users has indicated no objection to the proposed closure of the drawbridge. Vessels that are able to pass under the bridge in the closed position and may do so at any time. Although the bridge will not be able to open for emergencies, there is an alternate route for vessels to pass.

The Coast Guard will also inform waterway users of the closure through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 26, 2018.
Christopher J. Bisignano,
Supervisory Bridge Management Specialist, First Coast Guard District.

[FR Doc. 2018-06397 Filed 3-29-18; 8:45 am]

BILLING CODE 9110-04-P